DEPARTMENT OF LABOR

Employment and Training Administration

[NAFTA-04608]

Collis, Inc., Elizabethtown, KY; Notice of Affirmative Determination Regarding Application for Reconsideration

By letter of August 30, 2001 the United Steelworkers of America, AFL-CIO-CLC, District 8 requested administrative reconsideration of the Department of Labor's Notice of negative Determination Regarding Eligibility to Apply for NAFTA Transitional Adjustment Assistance. The denial notice was signed on August 8, 2001 and published in the Federal Register on August 23, 2001 (66 FR 44378).

The petitioner presented additional information that appears to warrant additional investigation. The information provided by the petitioner shows that a portion of plant production may have been shifted to Mexico. The information further shows the possibility of increased company imports from Mexico contributing importantly to the layoffs at the subject plant.

Conclusion

After careful review of the application, I conclude that the claim is of sufficient weight to justify reconsideration of the Department of Labor's prior decision. The application is, therefore, granted.

Signed at Washington, DC this 17th day of December 2001.
Edward A. Tomchick,
Director, Division of Trade Adjustment Assistance.

[FR Doc. 01-31629 Filed 12-21-01; 8:45 am]

BILLING CODE 4510-30-M